Title 3—

The President

Proclamation 8570 of September 27, 2010

Family Day, 2010

By the President of the United States of America

A Proclamation

Committed families shape and guide our children, preparing them for every obstacle they may encounter and encouraging them to overcome life’s most demanding challenges. Today, our young people are exposed to negative influences that can lead to dangerous decisions, such as abusing drugs and alcohol. When parents, loved ones, and mentors take the time to educate youth about the risks they face, they can change attitudes and reduce the likelihood their loved ones will use alcohol and illicit drugs. On Family Day, we honor the devotion of parents and family members, and recognize their critical role in teaching our young people positive and healthy behaviors.

Parents across America balance demanding responsibilities at work with family needs, including valuable time spent with their children. America’s youth encounter difficult choices in their daily lives, and we must be there for them as they strive to succeed in school and resist pressures to use dangerous substances that can affect their health and limit their potential. Concerned and active parents and guardians play a critical role in keeping our children drug-free, and they can demonstrate by example how to lead a healthy and drug-free life. I encourage all Americans to visit www.TheAntiDrug.com for information and resources to talk with children and warn them against the perils of drug use.

Simple daily activities such as sharing a meal, a conversation, or a book can have an enormous impact on the life of a child. Strong and engaged families help build a strong America, and it is our responsibility as concerned family members to discuss the dangers of substance abuse. On this Family Day, let us recommit to creating a solid foundation for the future health and happiness of all our Nation’s children.

NOW, THEREFORE, I, BARACK OBAMA, President of the United States of America, by virtue of the authority vested in me by the Constitution and the laws of the United States, do hereby proclaim September 27, 2010, as Family Day. I call upon the people of the United States to join together in observing this day by spending time with your families, and by engaging in appropriate ceremonies and activities to honor and strengthen our Nation’s families.

IN WITNESS WHEREOF, I have hereunto set my hand this twenty-seventh day of September, in the year of our Lord two thousand ten, and of the Independence of the United States of America the two hundred and thirty-fifth.

[FR Doc. 2010-24777

Filed 9-29-10; 11:15 am]

Billing code 3195-W0-P